Title 3—

The President

Proclamation 8152 of May 31, 2007

National Child's Day, 2007

By the President of the United States of America

A Proclamation

Today's children are tomorrow's leaders, and our Nation has a responsibility to ensure that they develop the character and skills needed to succeed. On National Child's Day, we underscore our commitment to our children and pledge to provide them with the care, protection, and education they deserve.

Children are great blessings in our lives. They rely on the love and guidance of parents, family members, mentors from faith-based and community organizations, and teachers to help them gain a sense of confidence and learn that their actions have consequences. All of us play an important role in teaching our children that the decisions they make today will affect them for the rest of their lives.

My Administration is committed to helping young Americans reach their full potential. One of my top priorities is to reauthorize the No Child Left Behind Act, a good law that has brought great progress. Students are scoring higher and beginning to close the achievement gap, proving that when we set expectations high, America's schools and students will rise to meet them. My Administration is also ensuring that our country is competitive by enhancing math and science education through the American Competitiveness Initiative. Additionally, the Department of Health and Human Services and its partners are working to prevent childhood obesity by encouraging America's youth to exercise and practice healthy eating habits. And the Helping America's Youth initiative, led by First Lady Laura Bush, raises awareness about the challenges that face our young people and motivates caring adults to connect with children in three key areas: family, school, and community. We will continue to work to provide a safe environment and a quality education for our Nation's boys and girls to ensure that they are prepared to lead lives of purpose and success.

On National Child's Day and throughout the year, we are grateful for young Americans and those who support them. Through a loving commitment to America's youth, we can create a more hopeful society, build a bright future for our country, and encourage our children to achieve their dreams.

NOW, THEREFORE, I, GEORGE W. BUSH, President of the United States of America, by virtue of the authority vested in me by the Constitution and laws of the United States, do hereby proclaim June 3, 2007 as National Child's Day. I call upon our citizens to celebrate National Child's Day with the appropriate ceremonies and activities. I also urge all Americans to dedicate time and energy to educating our youth and providing them with a safe and caring environment.

IN WITNESS WHEREOF, I have hereunto set my hand this thirty-first day of May, in the year of our Lord two thousand seven, and of the Independence of the United States of America the two hundred and thirty-first.

[FR Doc. 07-2825

Filed 6-04-07; 8:55 am]

BILLING CODE 3195-01-P